DEPARTMENT OF COMMERCE

National Oceanic and Atmospheric Administration

Notice of Availability of Draft Guidance on Designation of New Regional Ocean Partnerships

AGENCY: Office for Coastal Management, National Ocean Service, National Oceanic and Atmospheric Administration, U.S. Department of Commerce.

ACTION: Notice of availability of draft guidance regarding the designation of new regional ocean partnerships; request for comments.

SUMMARY: Under the James M. Inhofe National Defense Authorization Act for Fiscal Year 2023 (NDAA), Coastal States (including Puerto Rico, the United States Virgin Islands, Guam, the Commonwealth of the Northern Mariana Islands, the Trust Territories of the Pacific Islands, and American Samoa), federally-recognized Indian Tribes (including Alaska native villages), and other entities may form new partnerships and apply to the National Oceanic and Atmospheric Administration (NOAA) (as delegated) for designation as a regional ocean partnership. Regional ocean partnerships coordinate the management of ocean, coastal, and Great Lakes resources. NOAA invites public comment on draft guidance on designating new regional ocean partnerships under the NDAA.

DATES: Comments are due by July 11, 2024.

ADDRESSES: Copies of the draft designation guidance document may be found on www.regulations.gov (search for NOAA-NOS-2024-0066) and NOAA's Office for Coastal Management website at https://coast.noaa.gov/data/coasthome/funding/_pdf/bil-rop-designation-guidance.pdf. Comments may be submitted by:

• Electronic Submission: Submit all electronic public comments via the Federal eRulemaking Portal. Go to www.regulations.gov and enter NOAA-NOS-2024-0066 in the search box, then click the “comment” icon, complete the required fields, and enter or attach your comments.

• Mail: Submit written comments to Joshua Lott, Office for Coastal Management, NOS, NOAA, 1305 East-West Highway, Silver Spring, Maryland 20910; ATTN: Regional Ocean Partnership Designation Guidance.

Instructions: All comments received are a part of the public record and generally will be posted for public viewing on www.regulations.gov without change. All personally identifiable information (name, address, etc.), confidential business information, or otherwise sensitive information submitted voluntarily by the commenter will be publicly accessible. The Federal agencies will accept anonymous comments (enter “N/A” in the required fields you wish to remain anonymous). Multimedia submissions (audio, video, etc.) must be accompanied by a written comment. The written comment is considered the official comment and should include discussion of all points you wish to make. The Federal agencies will generally not consider comments or comment contents located outside of the primary submission (i.e., on the web, cloud, or other file sharing system). Comments that are not responsive or contain profanity, vulgarity, threats, or other inappropriate language will not be considered.

FOR FURTHER INFORMATION CONTACT: Joshua Lott, Office for Coastal Management, NOS, NOAA, 1305 East-West Highway, Silver Spring, Maryland 20910; ATTN: Regional Ocean Partnership Designation Guidance. Phone: (202) 670-3826; or Email: rop.iija@noaa.gov.

SUPPLEMENTARY INFORMATION: Regional ocean partnerships are regional organizations, voluntarily convened by coastal States and Indian Tribes and designated by NOAA (as delegated, per the NDAA) to coordinate the management of ocean, coastal, and Great Lakes resources. These partnerships work in collaboration with other governments (including Tribal, Federal, and local) and stakeholders to address ocean and coastal issues of common concern in that region.

There are four existing regional ocean partnerships: the Gulf of Mexico Alliance, the Northeast Regional Ocean Council, the Mid-Atlantic Regional Council on the Ocean, and the West Coast Ocean Alliance. Section 10102(b)(3) of the NDAA, codified at 16 U.S.C. 1468(b)(3), designates these four entities as regional ocean partnerships; as such, this draft designation guidance and application process for new partnerships does not apply to them.

This draft designation guidance has been developed to address the membership, organization, and required elements of new partnerships. NOAA proposes to include the following information in the guidance: introduction and background; instructions on submitting a new partnership application to NOAA; requirements for new regional ocean partnerships; and eligibility for funding as a partnership. Applications to NOAA for new regional ocean partnerships must identify: the members of the new partnership, the governing body of the new partnership, and the purposes and functions of the new partnership.

The draft designation guidance document may be found on www.regulations.gov (search for NOAA-NOS-2024-0066) and NOAA's Office for Coastal Management website at https://coast.noaa.gov/data/coasthome/funding/_pdf/bil-rop-designation-guidance.pdf.

Authority: 16 U.S.C. 1468

Jeffrey L. Payne,
Director, Office for Coastal Management, National Ocean Service, National Oceanic and Atmospheric Administration.

[FR Doc. 2024-12670 Filed 6-10-24; 8:45 am]

BILLING CODE 3510-08-P